ENVIRONMENTAL PROTECTION AGENCY

[FRL-7921-3]

Science Advisory Board Staff Office; Notification of an Upcoming Teleconference of the Perfluorooctanoic Acid Risk Assessment (PFOA) Review Panel of the EPA Science Advisory Board (SAB)

AGENCY: Environmental Protection Agency (EPA).

ACTION: Notice.

SUMMARY: The EPA Science Advisory Board (SAB) Staff Office announces a public teleconference of the SAB Perfluorooctanoic Acid Risk Assessment (PFOA) Review Panel.

DATES: July 6, 2005, 2 p.m. to 5 p.m.

ADDRESSES: The public teleconference will take place via telephone only.

FOR FURTHER INFORMATION CONTACT: Members of the public who wish to obtain the call-in number and access code to participate in the teleconference may contact Dr. Sue Shallal, EPA Science Advisory Board Staff (1400F), U.S. Environmental Protection Agency, 1200 Pennsylvania Ave., NW., Washington, DC 20460; telephone/voice mail: (202) 343-9977 or via e-mail at shallal.suhair@epa.gov. The technical contact in EPA's Office of Pollution Prevention and Toxics (OPPT) is Dr. Jennifer Seed who can be reached at seed.jennifer@epa.gov or 202-564-7634.

SUPPLEMENTARY INFORMATION: Background: EPA's Office of Pollution Prevention and Toxics (OPPT) had requested that the SAB peer review the Agency's Draft Perfluorooctanoic Acid (PFOA) Risk Assessment. Background on this SAB review was provided in previous Federal Register notices published on March 29, 2004 (69 FR 16249-50); and January 12, 2005 (70 FR 2157-58). EPA's Draft PFOA risk assessment and related background information on PFOA may be found at: http://www.epa.gov/opptintr/pfoa/index.htm. The purpose of this upcoming teleconference is for the SAB Review Panel to finalize its draft review report. A meeting agenda and the draft SAB review report will be posted on the SAB Web site (http://www.epa.gov/sab/) prior to the meeting.

Procedures for Providing Public Comment: It is the policy of the EPA SAB Staff Office to accept written public comments of any length for the SAB Panel's consideration, and to accommodate oral public comments whenever possible. The EPA SAB Staff Office expects that public statements presented at this meeting will not be repetitive of previously submitted oral or written statements to this Panel. Requests to provide oral comments must be in writing (e-mail, fax or mail) and received by Dr. Shallal no later than five business days prior to the teleconference or meeting in order to reserve time on the meeting agenda. For teleconferences, opportunities for oral comment will usually be limited to no more than three minutes per speaker or organization and no more than fifteen minutes total. Written comments should be received in the SAB Staff Office at least five business days prior to the meeting date so that the comments may be made available to the committee for their consideration. Comments should be supplied to the DFO at the address/contact information noted above in the following formats: one hard copy with original signature and one electronic copy via e-mail (acceptable file format: Adobe Acrobat, WordPerfect, Word, or Rich Text files (in IBM-PC/Windows 98/2000 format).

Dated: March 31, 2005.
Vanessa T. Vu,
Director, EPA Science Advisory Board Staff Office.

[FR Doc. 05-11163 Filed 6-3-05; 8:45 am]

BILLING CODE 6560-50-P